DEPARTMENT OF EDUCATION

Office of Elementary and Secondary Education; Territories and Freely Associated States Education Grant (T&FASEG) Program; Notice Inviting Applications for New Awards for Fiscal Year (FY) 2006

Catalog of Federal Domestic Assistance (CFDA) Number: 84.256A.

Dates:

Applications Available: March 28, 2006.

Deadline for Transmittal of Applications: May 12, 2006.

Deadline for Intergovernmental Review: July 12, 2006.

Eligible Applicants: Only local educational agencies (LEAs) in American Samoa, the Commonwealth of the Northern Mariana Islands, Guam, the U.S. Virgin Islands, and the Republic of Palau.

Estimated Available Funds: $4,750,000.

Estimated Range of Awards: $650,000-1,500,000.

Estimated Average Size of Awards: $792,000.

Estimated Number of Awards: 4-6.

Note: The Department is not bound by any estimates in this notice.

Project Period: Up to 36 months.

Full Text of Announcement

I. Funding Opportunity Description

Purpose of Program: Territories and Freely Associated States Education grants support projects to raise student achievement through direct educational services. Grants are awarded to LEAs in the U.S. Territories (American Samoa, the Commonwealth of the Northern Mariana Islands, Guam, and the U.S. Virgin Islands) and the Republic of Palau. The LEA may use grant funds to carry out activities authorized by the Elementary and Secondary Education Act of 1965 (ESEA), as amended by the No Child Left Behind Act of 2001 (NCLB), including teacher training, curriculum development, development or acquisition of instructional materials, and general school improvement and reform.

Under the T&FASEG program, the Secretary awards grants for projects to—

(a) Conduct activities consistent with the purposes of the ESEA, as amended by NCLB, including the types of activities authorized by these ESEA titles—

(1) Title I—Improving the Academic Achievement of the Disadvantaged.

(2) Title II—Preparing, Training, and Recruiting High-quality Teachers and Principals.

(3) Title III—Language Instruction for Limited English Proficient and Immigrant Students.

(4) Title IV—21st Century Schools.

(5) Title V—Promoting Informed Parental Choice and Innovative Programs.

(b) Provide direct educational services that assist all students with meeting challenging State academic achievement standards.

Note: The Secretary interprets the term direct educational services to—

(1) Mean activities that are designed to improve student achievement or the quality of education; and

(2) Include instructional services for students and teacher training.

Note: The full text of the ESEA, as amended by NCLB, may be found on the Internet at: http://www.ed.gov/legislation/ESEA02/.

Priorities: Under this competition we are particularly interested in applications that address the following priorities.

Invitational Priorities: For FY 2006 these priorities are invitational priorities. Under 34 CFR 75.105(c)(1) we do not give an application that meets these invitational priorities a competitive or absolute preference over other applications.

These priorities are:

Invitational Priority 1—Reading Literacy: The Secretary is particularly interested in receiving applications that focus on building early reading literacy skills that will help to improve student achievement in reading and language performance as measured by State academic standards. Research shows that children who read well in the early grades are far more successful in later years, and those who fall behind often stay behind when it comes to academic achievement (Snow, Burns, and Griffin 1998). Reading opens the door to learning about math, history, science, literature, geography, and much more. Thus, young, capable readers can succeed in these subjects, take advantage of other opportunities, and develop confidence in their own abilities. On the other hand, those students who cannot read well are much more likely to drop out of school and be limited to low-paying jobs throughout their lives. Reading is undeniably critical to success in today's society. The Secretary encourages applicants to align their projects with the performance measures described in section VI. 4. Performance Measures of this notice.

Invitational Priority 2—Teacher Quality: The Secretary is particularly interested in LEA projects that focus on professional development and teacher training that improve teacher qualifications and the quality of teaching and instruction. A major objective of NCLB is to ensure that all students, regardless of race, ethnicity, or income, have the best teachers possible. A well-prepared teacher is vitally important to a child's education. In fact, research demonstrates the clear correlation between student academic achievement and teacher quality (Whitehurst, G. 2002). The Secretary encourages applicants to align their projects with the performance measures described in section VI. 4. of this notice.

Program Authority: 20 U.S.C. 6331.

Applicable Regulations: The Education Department General Administrative Regulations (EDGAR) in 34 CFR parts 74, 75, 77, 79, 80, 81, 82, 84, 85, 97, 98, and 99.

II. Award Information

Type of Award: Discretionary grants.

Estimated Available Funds: $4,750,000.

Estimated Range of Awards: $650,000-$1,500,000.

Estimated Average Size of Awards: $792,000.

Estimated Number of Awards: 4-6.

Note: The Department is not bound by any estimates in this notice.

Project Period: Up to 36 months.

III. Eligibility Information

1. Eligible Applicants: Only LEAs in American Samoa, the Commonwealth of the Northern Mariana Islands, Guam, the U.S. Virgin Islands, and the Republic of Palau.

2. Cost Sharing or Matching: This program does not involve cost sharing or matching.

IV. Application and Submission Information

1. Address to Request Application Package: You may obtain the application package electronically by downloading it from the Territories and Freely Associated States Education Program Web site: http://www.ed.gov/programs/tfasegp/applicant.html.

You may also request an application package by contacting Valerie Rogers, U.S. Department of Education, 400 Maryland Avenue, SW., room 3E245, Washington, DC 20202-6400. Telephone 202-260-2543 or by e-mail: Valerie.Rogers@ed.gov.

If you use a telecommunications device for the deaf (TDD), you may call the Federal Relay Service (FRS) at 1-800-877-8339.

Individuals with disabilities may obtain a copy of the application package in an alternative format (e.g., Braille, large print, audiotape, or computer diskette) by contacting the program contact person listed above in this section of the notice.

2. Content and Form of Application Submission: Requirements concerning the content of an application, together with the forms you must submit, are in the application package for this competition.

Page Limit: The project narrative (Section D of the application package) is where you, the applicant, address the selection criteria that the reviewers will use to evaluate your application. Applicants are strongly encouraged to limit the project narrative (text plus all figures, charts, tables, and diagrams) to the equivalent of no more than 35 single-sided pages, using the following standards:

A “page” is 8.5 x 11, on one side only, with 1″ margins at the top, bottom, and both sides.

Double space (no more than three lines per vertical inch) all text in the application narrative, including titles, headings, footnotes, quotations, references, and captions, as well as all text in charts, tables, figures, and graphs.

Use a font that is 12 point or larger. The page limit does not apply to the cover sheet; required standard forms, budget section, including the budget justification narrative; assurances and certifications; one-page abstract; endnotes; or resumes. However, you must include all of the application narrative in the narrative section. Appendices to the narrative are not permitted.

3. Submission Dates and Times:

Applications Available: March 28, 2006.

Deadline for Transmittal of Applications: May 12, 2006.

Applications for grants under this competition may be submitted electronically using the Grants.gov Apply site (Grants.gov) or in paper format by mail or hand delivery. For information (including dates and times) about how to submit your application electronically, or by mail or hand delivery, please refer to section IV. 6. Other Submission Requirements in this notice.

The Department does not consider an application that does not comply with the deadline requirements.

Deadline for Intergovernmental Review: July 12, 2006.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new governmentwide Grants.gov Apply site in FY 2006. The T&FASEG program-CFDA Number 84.256A is one of the programs included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for the T&FASEG program at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text), or .PDF (Portable Document) format. If you upload a file type other than the three file types specified above or submit a password protected file, we will not review that material.

• Your electronic application must comply with any page-limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability: If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service:U.S. Department of Education, Application Control Center, Attention: CFDA Number 84.256A, 400 Maryland Avenue, SW., Washington, DC 20202-4260 or

By mail through a commercial carrier:U.S. Department of Education, Application Control Center—Stop 4260, Attention: CFDA Number 84.256A, 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: 84.256A, 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the Application for Federal Education Assistance (ED 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria are from 34 CFR 75.209-75.210. The maximum possible score for this competition is 100 points.

As provided for in the ESEA, as amended by NCLB, the Secretary, in making awards under this program, will take into consideration the recommendations of Pacific Resources for Education and Learning (PREL). PREL will use the following criteria in developing its recommendations, and the Secretary will use them in making final funding decisions. The Notes following the selection criteria are meant to serve as guidance to assist the applicant in creating a stronger application, and are not required by statute or regulation.

(a) Need for Project. (5 points)

(1) The Secretary considers the need for the proposed project.

(2) In determining the need for the proposed project, the Secretary considers the following factors:

(i) The magnitude or severity of the problem to be addressed by the proposed project.

(ii) The magnitude of the need for the services to be provided or the activities to be carried out by the proposed project.

(iii) The extent to which the proposed project will provide services or otherwise address the needs of students who are at risk of educational failure.

Note: In meeting this criterion, the Secretary encourages the applicant to clearly demonstrate unique needs and circumstances that justify funding support for this project. The Secretary also encourages the applicant to demonstrate the extent to which local resources are used to meet the needs addressed by the project proposal.

(b) Significance. (10 points)

(1) The Secretary considers the significance of the proposed project.

(2) In determining the significance of the proposed project, the Secretary considers the following factors:

(i) The national significance of the proposed project.

(ii) The significance of the problem or issue to be addressed by the proposed project.

(iii) The importance or magnitude of the results or outcomes likely to be attained by the proposed project, especially improvements in teaching and student achievement.

(c) Quality of the Project Design. (25 points)

(1) The Secretary considers the quality of the design of the proposed project.

(2) In determining the quality of the design of the proposed project, the Secretary considers the following factors:

(i) The extent to which the goals, objectives, and outcomes to be achieved by the proposed project are clearly specified and measurable.

(ii) The extent to which the design of the proposed project is appropriate to, and will successfully address, the needs of the target population or other identified needs.

(iii) The extent to which the proposed project will be coordinated with similar or related efforts, and with other appropriate community, State, and Federal resources.

(iv) The extent to which the proposed project is part of a comprehensive effort to improve teaching and learning and support rigorous academic standards for students.

(v) The extent to which the proposed project encourages parental involvement.

(vi) The extent to which performance feedback and continuous improvement are integral to the design of the proposed project.

(d) Adequacy of Resources. (5 points)

(1) The Secretary considers the adequacy of resources for the proposed project.

(2) In determining the adequacy of resources for the proposed project, the Secretary considers the following factors:

(i) The extent to which the budget is adequate to support the proposed project.

(ii) The extent to which the costs are reasonable in relation to the objectives, design, and potential significance of the proposed project.

(iii) The extent to which the costs are reasonable in relation to the number of persons to be served and to the anticipated results and benefits.

(e) Quality of project personnel. (15 points)

(1) The Secretary considers the quality of the personnel who will carry out the proposed project. (2) In determining the quality of the personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The qualifications, including relevant training and experience, of project consultants or subcontractors.

Note: In meeting this criterion, the Secretary encourages the applicant to attach curricula vitae, résumés, etc., of key project personnel.

(f) Quality of the project evaluation. (25 points)

(1) The Secretary considers the quality of the evaluation to be conducted of the proposed project.

(2) In determining the quality of the evaluation, the Secretary considers the following factors:

(i) The extent to which the methods of evaluation provide for examining the effectiveness of project implementation strategies.

(ii) The extent to which the methods of evaluation include the use of objective performance measures that are clearly related to the intended outcomes of the project and will produce quantitative and qualitative data to the extent possible.

Note: In meeting this criterion, the Secretary encourages the applicant to align its evaluation with the performance measures described in section VI.4 of this notice.

(g) Quality of project services. (15 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project are appropriate to the needs of the intended recipients or beneficiaries of those services.

(ii) The likely impact of the services to be provided by the proposed project on the intended recipients of those services.

(iii) The extent to which the training or professional development services to be provided by the proposed project are of sufficient quality, intensity, and duration to lead to improvements in practice among the recipients of those services.

(iv) The extent to which the services to be provided by the proposed project are focused on those with greatest needs.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The Department has developed two performances measures for evaluating the effectiveness of the T&FASEG program—(1) The percentage of students who participate in reading programs under the T&FASEG program reading at or above grade level on State assessments; and (2) The percentage of teachers who participate in professional development activities under the T&FASEG program meeting State teacher certification standards.

All grantees must submit an annual performance report addressing these performance measures, to the extent that they apply to the grantee's project.

VII. Agency Contacts

FOR FURTHER INFORMATION CONTACT: Valerie Rogers, U.S. Department of Education, 400 Maryland Avenue, SW., room 3E245, Washington, DC 20202-6140. Telephone: (202) 260-2543 or by e-mail: Valerie.Rogers@ed.gov.

If you use a telecommunications device for the deaf (TDD), you may call the Federal Relay Service (FRS) at 1-888-877-8339.

Individuals with disabilities may obtain this document in an alternative format (e.g., Braille, large print, audiotape, or computer diskette) on request from the contact person listed in this section.

VIII. Other Information

Electronic Access to this Document. You may view this document, as well as all other Department of Education documents published in the Federal Register, in text or Adobe Portable Document Format (PDF) on the Internet at the following site: http://www.ed.gov/news.fedregister.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 23, 2006.
Henry L. Johnson,
Assistant Secretary for Elementary and Secondary Education.

[FR Doc. E6-4498 Filed 3-27-06; 8:45 am]

BILLING CODE 4000-01-P